DEPARTMENT OF STATE

[Public Notice 6103]

Bureau of Educational and Cultural Affairs; Notice: Amendment to Original RFGP (Community College Initiative for Egypt)

SUMMARY: The United States Department of State, Bureau of Educational and Cultural Affairs, announces revisions to the original RFGP announced in the Federal Register on Thursday, January 31, 2008 (FR Volume 73, Number 21):

Section III.1. “Eligible applicants” is revised as follows: Applications may be submitted by public and private non-profit organizations meeting the provisions described in Internal Revenue Code section 26 U.S.C. 501(c)(3) that are consortia of accredited U.S. community colleges, or other combinations of multiple community college campuses. Consortia must designate a lead institution to receive and administer the award.

The due date for this competition is revised from April 7, 2008 to April 21, 2008.

All other terms and conditions remain the same.

Additional Information: Interested organizations should contact Karene Grad, Office of Global Educational Programs, ECA/A/S/U, Room 349, ECA/A/S/U-08-03, U.S. Department of State, SA-44, 301 4th Street, SW., Washington, DC 20547, telephone 202-453-8643, fax 202-453-8891, e-mail GradKX@state.gov, prior to Monday, April 21, 2008.

Dated: February 13, 2008.
C. Miller Crouch,
Acting Assistant Secretary, Bureau of Educational and Cultural Affairs, Department of State.

[FR Doc. E8-3156 Filed 2-19-08; 8:45 am]

BILLING CODE 4710-05-P